OFFICE OF MANAGEMENT AND BUDGET

Uniform Administrative Requirements, Cost Principles, and Audit Requirements

AGENCY: Executive Office of the President, Office of Management and Budget.

ACTION: Notice.

SUMMARY: This Notice announces the availability of the 2018 OMB 2 CFR part 200, Subpart F—Audit Requirements, Appendix XI—Compliance Supplement (2018 Supplement). This Notice also offers interested parties an opportunity to comment on the 2018 Supplement. The 2018 Supplement is not a full update on the 2017 Supplement and only amends the following programs with major changes, and adds guidance in Part 3.I, Procurement and Suspension and Debarment and Appendix VII of the Supplement.

DATES: The 2018 Supplement complements the 2017 Supplement and applies to audits of fiscal years beginning after June 30, 2017. All programs, Parts and Appendices contained in the 2017 Compliance Supplement that are not listed for updates in the section above remain unchanged and applicable for audits. Thus, the 2018 Supplement must be used in conjunction with the 2017 Supplement to perform audits.

ADDRESSES: All comments on the 2018 Supplement must be in writing and received by July 31, 2018. Late comments will be considered to the extent practicable. Comments will be reviewed and addressed, when appropriate, in the 2019 Compliance Supplement.

Due to potential delays in OMB's receipt and processing of mail sent through the U.S. Postal Service, we encourage respondents to submit comments electronically to ensure timely receipt. We cannot guarantee that comments mailed will be received before the comment closing date.

Electronic mail comments may be submitted to: Hai_M._Tran@omb.eop.gov. Please include “2 CFR part 200 Subpart F—Audit Requirements, Appendix XI—Compliance Supplement—2018” in the subject line and the full body of your comments in the text of the electronic message and as an attachment. Please include your name, title, organization, postal address, telephone number, and email address in the text of the message. Comments may also be submitted via facsimile at 202-395-3952.

Comments may be mailed to Gilbert Tran, Office of Federal Financial Management, Office of Management and Budget, 725 17th Street NW, Room 6025, New Executive Office Building, Washington, DC 20503.

Comments may also be sent through http://www.regulations.gov—a Federal E-Government website that allows the public to find, review, and submit comments on documents that agencies have published in the Federal Register and that are open for comment. Simply type “2 CFR part 200 Subpart F—Audit Requirements, Appendix XI—Compliance Supplement—2018” (in quotes) in the Comment or Submission search box, click Go, and follow the instructions for submitting comments. Comments received through the website by the date specified above will be included as part of the official record.

The 2018 Supplement is available online on the OMB home page at https://www.whitehouse.gov/omb/offices/offm.

FOR FURTHER INFORMATION CONTACT: Recipients and auditors should contact their cognizant or oversight agency for audit, or Federal awarding agency, as appropriate under the circumstances. The Federal agency contacts are listed in Appendix III of the Supplement. Subrecipients should contact their pass-through entity. Federal agencies should contact Gilbert Tran, Office of Management and Budget, Office of Federal Financial Management, at (202) 395-3052.

SUPPLEMENTARY INFORMATION: The programs/clusters in Parts 4 and 5 with updates are as follows:

Department of Transportation (DOT)

• CFDA 20.205, 20.219, 20.224, 23.003—Highway Planning and Construction Cluster

• CFDA 20.319—High-Speed Rail Corridors and Intercity Passenger Rail Service—Capital Assistance Grants

• CFDA 20.500, 200.507, 20.525, 20.526—Federal Transit Cluster

Department of Education (ED)

• 84.000—Cross-Cutting Section

• 84.010—Title I Grants to Local Educational Agencies

• 84.011—Migrant Education—State Grant Program

• 84.282—Charter Schools

• 84.365—English Language Acquisition State Grants

• 84.367—Supporting Effective Instruction State Grants

• 84.424—Student Support and Academic Enrichment Program

• Student Financial Aid Cluster

The following two programs in the 2017 Supplement are deleted in the 2018 Supplement:

• 84.377—School Improvement Grants

• 84.395—State Fiscal Stabilization Fund (SFSF)—Race-to-the-Top Incentive Grants, Recovery Act

Department of Health and Human Services (DHHS)

• CFDA 93.224, CFDA 93.527—Health Center Program Cluster

• CFDA 93.508, CFDA 93.872—Tribal Maternal, Infant, and Early Childhood Home Visiting Program Cluster

• CFDA 93.575, CFDA 93.596—CCDF Cluster

• CFDA 93.600—Head Start

Social Security Administration (SSA)

• CFDA 96.001, CFDA 96.006—Disability Insurance/SSI Cluster Due to its length, a link to the 2018 Supplement is included in this Notice under the ADDRESSES section below.

Regina Kearney,
Acting Deputy Controller.

[FR Doc. 2018-10567 Filed 5-18-18; 8:45 am]

BILLING CODE 3110-01-P